DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL) Modified
Unincorporated Areas of Nowata County, Oklahoma Docket No.: FEMA-B-1171
Oklahoma | Unincorporated Areas of Nowata County | Southwest Tributary | At the downstream side of E0230 Road | +687
|  |  | Approximately 0.4 mile upstream of E0230 Road | +696
* National Geodetic Vertical Datum.
+ North American Vertical Datum.
# Depth in feet above ground.
‸ Mean Sea Level, rounded to the nearest 0.1 meter.
ADDRESSES
Unincorporated Areas of Nowata County
Maps are available for inspection at the Nowata County Office, 229 North Maple Street, Nowata, OK 74048.

Flooding source(s) | Location of referenced elevation | * Elevation in feet (NGVD) + Elevation in feet (NAVD) # Depth in feet above ground ‸ Elevation in meters (MSL) Modified | Communities affected
St. Lucie County, Florida, and Incorporated Areas Docket No.: FEMA-B-1164
Canal 8 | At the confluence with Fivemile Creek | +12 | City of Fort Pierce, Unincorporated Areas of St. Lucie County.
| Approximately 1,385 feet upstream of Summit Street | +18
Fivemile Creek | At Peterson Road | +16 | City of Fort Pierce, Unincorporated Areas of St. Lucie County.
| Approximately 0.5 mile upstream of Peterson Road | +16
Howard Creek | Approximately 1,635 feet downstream of Southeast Ballantrae Boulevard | +6 | City of Port St. Lucie, Unincorporated Areas of St. Lucie County.
| Approximately 0.6 mile upstream of Southeast Westmoreland Boulevard | +13
Ponding Area | Ponding area bounded by Virginia Park Boulevard to the north, west, and south, and South 35th Street to the east | +15 | City of Fort Pierce, Unincorporated Areas of St. Lucie County.
Ponding Area | Ponding area bounded by State Highway 70 to the north, South 35th Street to the west, Cortez Boulevard to the south, and South 29th Street to the east | +15 | City of Fort Pierce, Unincorporated Areas of St. Lucie County.
Ponding Area | Ponding area bounded by State Highway 70 to the north, South 29th Street to the west, Cortez Boulevard to the south, and Placid Avenue to the east | +16 | City of Fort Pierce, Unincorporated Areas of St. Lucie County.
Ponding Area | Ponding area bounded by Royal Palm Drive to the north, South 25th Street to the west, Cortez Boulevard to the south, and South 19th Street to the east | +17 | City of Fort Pierce, Unincorporated Areas of St. Lucie County.
Ponding Area | Ponding area bounded by Cortez Boulevard to the north, South 25th Street to the west, Edwards Road to the south, and Admiral Street to the east | +17 | City of Fort Pierce, Unincorporated Areas of St. Lucie County.
Ponding Area | Ponding area bounded by Arnold Road to the north, Fivemile Creek to the west, Kirby Loop Road to the south, and Virginia Park Boulevard to the east | +14 | City of Fort Pierce.
Ponding Area | Ponding area bounded by State Highway 70 to the north, South 35th Street to the west, Cortez Boulevard to the south, and South 29th Street to the east | +16 | City of Fort Pierce.
Ponding Area | Ponding area bounded by State Highway 70 to the north, South 35th Street to the west, Cortez Boulevard to the south, and South 29th Street to the east | +17 | City of Fort Pierce.
Ponding Area | Ponding area bounded by Linda Sue Circle to the north, west, south, and east | +17 | City of Fort Pierce.
Tenmile Creek Tributary | At McCarty Road | +19 | City of Port St. Lucie, Unincorporated Areas of St. Lucie County.
| Approximately 1,400 feet upstream of Newell Road | +21
* National Geodetic Vertical Datum.
+ North American Vertical Datum.
# Depth in feet above ground.
‸ Mean Sea Level, rounded to the nearest 0.1 meter.
ADDRESSES
City of Fort Pierce
Maps are available for inspection at City Hall, 100 North U.S. Route 1, Fort Pierce, FL 34950.
City of Port St. Lucie
Maps are available for inspection at City Hall, 121 Southwest Port St. Lucie Boulevard, Port St. Lucie, FL 34984.
Unincorporated Areas of St. Lucie County
Maps are available for inspection at the St. Lucie County Building Department, 2300 Virginia Avenue, Fort Pierce, FL 34982.
White County, Illinois, and Incorporated Areas Docket No.: FEMA-B-1174
Griffith Lake | Entire shoreline | +391 | City of Carmi.
Little Wabash River | Approximately 0.7 mile upstream of County Highway 23 | +377 | City of Carmi, Unincorporated Areas of White County.
| At County Road 1200 East (Lowe Road) | +381
Old Channel Wabash River | Approximately 0.82 mile downstream of Mulberry Street extended | +386 | City of Grayville.
| Approximately 250 feet downstream of North Street extended | +386
Unnamed Ponding Area | Entire area of ponding north of the abandoned railroad | +398 | City of Carmi, Unincorporated Areas of White County.
Unnamed Tributary to Little Wabash River | At the upstream side of College Boulevard | +379 | City of Carmi, Unincorporated Areas of White County.
| At the downstream side of the abandoned railroad (approximately 1.94 miles upstream of the Little Wabash River confluence) | +394
Unnamed Tributary to Little Wabash River, West Branch | At the Unnamed Tributary to Little Wabash River confluence | +380 | City of Carmi, Unincorporated Areas of White County.
| At the downstream side of Fairground Road | +383
Wabash River | Approximately 0.51 mile downstream of County Road 1100 North (Emma Street) extended | +374 | Village of Maunie.
| Approximately 480 feet upstream of County Road 1100 North (Emma Street) extended | +375
* National Geodetic Vertical Datum.
+ North American Vertical Datum.
# Depth in feet above ground.
‸ Mean Sea Level, rounded to the nearest 0.1 meter.
ADDRESSES
City of Carmi
Maps are available for inspection at City Hall, 225 East Main Street, Carmi, IL 62821.
City of Grayville
Maps are available for inspection at City Hall, 122 South Court Street, Grayville, IL 62844.
Unincorporated Areas of White County
Maps are available for inspection at the White County Courthouse, 301 East Main Street, Carmi, IL 62821.
Village of Maunie
Maps are available for inspection at the Village Hall, 328 Sheridan Street, Maunie, IL 62861.
Stearns County, Minnesota, and Incorporated Areas Docket Nos.: FEMA-B-1137 and FEMA-B-1185
Clearwater River | Approximately 60 feet upstream of State Highway 55 | +1,010 | Unincorporated Areas of Stearns County.
| Approximately 1,600 feet upstream of State Highway 55 | +1,011
Sauk Lake | Entire shoreline within community | +1,232 | Unincorporated Areas of Stearns County.
Sauk River | Approximately 7,260 feet downstream of County Route 17 | +1,226 | City of Sauk Centre, Unincorporated Areas of Stearns County.
| Approximately 1,450 feet downstream of Main Street | +1,227
* National Geodetic Vertical Datum.
+ North American Vertical Datum.
# Depth in feet above ground.
‸ Mean Sea Level, rounded to the nearest 0.1 meter.
ADDRESSES
City of Sauk Centre
Maps are available for inspection at 320 Oak Street South, Sauk Centre, MN 56378.
Unincorporated Areas of Stearns County
Maps are available for inspection at the Stearns County Administration Center, 705 Courthouse Square, St. Cloud, MN 56303.
Issaquena County, Mississippi, and Incorporated Areas Docket No.: FEMA-B-1159
Mississippi River | Approximately 5.3 miles upstream of the U.S. Route 80 bridge | +112 | Unincorporated Areas of Issaquena County.
| Approximately 9.3 miles upstream of the U.S. Route 80 bridge | +120
Steele Bayou | An area bounded by the county boundary to the north, west, south, and east | +100 | Town of Mayersville, Unincorporated Areas of Issaquena County.
Yazoo River | Approximately 6 miles downstream of U.S. Route 61 | +105 | Unincorporated Areas of Issaquena County.
| Approximately 12 miles upstream of U.S. Route 61 | +105
* National Geodetic Vertical Datum.
+ North American Vertical Datum.
# Depth in feet above ground.
‸ Mean Sea Level, rounded to the nearest 0.1 meter.
ADDRESSES
Town of Mayersville
Maps are available for inspection at 132 Court Street, Mayersville, MS 39113.
Unincorporated Areas of Issaquena County
Maps are available for inspection at 129 Court Street, Mayersville, MS 39113.
Yazoo County, Mississippi, and Incorporated Areas Docket No.: FEMA-B-1159
Big Black River | Approximately 21.9 miles downstream of U.S. Route 49 | +149 | Unincorporated Areas of Yazoo County.
| Approximately 10.7 miles downstream of U.S. Route 49 | +155
Collins Creek | An area bounded by the Yazoo River Levee to the north and west, State Highway 3 to the south, and Germania Road to the east | +93 | Unincorporated Areas of Yazoo County.
Satartia Creek (backwater effects from Mississippi River) | Approximately 0.75 mile downstream of State Highway 3 | +105 | Unincorporated Areas of Yazoo County.
| Approximately 1,900 feet downstream of State Highway 3 | +105
Steele Bayou | An area bounded by the county boundary to the north, west, and south, and the William M. Whittington Canal Levee to the east | +100 | Unincorporated Areas of Yazoo County.
Yazoo River (backwater effects from Mississippi River) | Approximately 21 miles downstream of Satartia Road | +105 | Unincorporated Areas of Yazoo County.
| Approximately 15 miles downstream of Satartia Road | +105
* National Geodetic Vertical Datum.
+ North American Vertical Datum.
# Depth in feet above ground.
‸ Mean Sea Level, rounded to the nearest 0.1 meter.
ADDRESSES
Unincorporated Areas of Yazoo County
Maps are available for inspection at 211 East Broadway Street, Yazoo City, MS 39194.
Clark County, Missouri, and Incorporated Areas Docket No.: FEMA-B-1170
Big Branch (backwater effects from Mississippi River) | From the Honey Creek confluence to approximately 0.5 mile downstream of State Highway H | +497 | Unincorporated Areas of Clark County.
Buck Run (overflow effects from Mississippi River) | At the Lewis County boundary | +495 | Unincorporated Areas of Clark County.
| Approximately 0.6 mile downstream of Avenue of the Saints | +496
Doe Run (backwater effects from Mississippi River) | From the Lewis County boundary to approximately 1,290 feet downstream of Avenue of the Saints | +496 | Unincorporated Areas of Clark County.
Mississippi River | Approximately 2.5 miles downstream of the Fox River confluence | +495 | City of Alexandria, Unincorporated Areas of Clark County.
| At the Des Moines River confluence | +499
* National Geodetic Vertical Datum.
+ North American Vertical Datum.
# Depth in feet above ground.
‸ Mean Sea Level, rounded to the nearest 0.1 meter.
ADDRESSES
City of Alexandria
Maps are available for inspection at the Community Center, 109 Market Street, Alexandria, MO 63430.
Unincorporated Areas of Clark County
Maps are available for inspection at the Clark County Courthouse, 111 East Court Street, Suite 4, Kahoka, MO 63445.
Schoharie County, New York (All Jurisdictions) Docket No.: FEMA-B-1076
Cobleskill Creek | Approximately 490 feet downstream of New York State Route 10/7 | +919 | Town of Cobleskill, Town of Richmondville, Village of Richmondville.
| Approximately 600 feet upstream of the I-88 Exit 20 ramp | +1,013
* National Geodetic Vertical Datum.
+ North American Vertical Datum.
# Depth in feet above ground.
‸ Mean Sea Level, rounded to the nearest 0.1 meter.
ADDRESSES
Town of Cobleskill
Maps are available for inspection at the Town Office, 378 Mineral Springs Road, Cobleskill, NY 12043.
Town of Richmondville
Maps are available for inspection at the Richmondville Town Hall, 340 Main Street, Richmondville, NY 12149.
Village of Richmondville
Maps are available for inspection at the Richmondville Village Hall, 295 Main Street, Richmondville, NY 12149.

(Catalog of Federal Domestic Assistance No. 97.022, “Flood Insurance.”)

Dated: January 26, 2012.
Sandra K. Knight,
Deputy Associate Administrator for Mitigation, Department of Homeland Security, Federal Emergency Management Agency.

[FR Doc. 2012-3179 Filed 2-9-12; 8:45 am]

BILLING CODE 9110-12-P